ENVIRONMENTAL PROTECTION AGENCY

[FRL-9195-6]

Proposed Cercla Administrative Order on Consent for the Standard Mine Site, Gunnison County, CO

AGENCY: Environmental Protection Agency (EPA).

ACTION: Notice and request for public comment.

SUMMARY: In accordance with the requirements of section 122(i) of the Comprehensive Environmental Response, Compensation, and Liability Act, as amended (“CERCLA”), 42 U.S.C. 9622(I), notice is hereby given of a proposed Administrative Order on Consent (“AOC”) under sections 104, 106, 107, and 122 of CERCLA, 42 U.S.C. 9604, 9606, 9607, and 9622, between EPA and Elijah Valencia regarding the Standard Mine Site, located in Gunnison County, Colorado. The proposed AOC is for recovery of past and projected future response costs concerning the Standard Mine site in Gunnison County, Colorado with Elijah Valencia based upon ability to pay. The settlement requires the settling party to execute an environmental covenant and provide access to real property. The settlement includes a covenant not to sue the settling party pursuant to Section 107(a) of CERCLA, 42 U.S.C. 9607(a). For thirty (30) days following the date of publication of this notice, the Agency will consider all comments received on the AOC and may modify or withdraw its consent to the AOC, if comments received disclose facts or considerations which indicate that the settlement is inappropriate, improper, or inadequate. The Agency's response to any comments received will be available for public inspection at the EPA Superfund Record Center, 1595 Wynkoop Street, 2nd Floor, in Denver, Colorado.

DATES: Comments must be submitted on or before September 30, 2010.

ADDRESSES: The proposed settlement and additional background information relating to the settlement are available for public inspection at the EPA Superfund Records Center, 1595 Wynkoop Street, 2nd Floor, in Denver, Colorado 80202. Comments and requests for a copy of the proposed settlement should be addressed to John D. Works, Enforcement Specialist (8ENF-RC), Technical Enforcement Program, U.S. Environmental Protection Agency, 1595 Wynkoop Street, Denver, Colorado 80202-1129, and should reference the Standard Mine Site/Valencia settlement.

FOR FURTHER INFORMATION CONTACT: John D. Works, Enforcement Specialist (8ENF-RC), Technical Enforcement Program, U.S. Environmental Protection Agency, 1595 Wynkoop Street, Denver, Colorado 80202-1129, (303) 312-6196.

It is so agreed.

Dated: August 25, 2010.
Sharon L. Kercher,
Acting Assistant Regional Administrator, Office of Enforcement, Compliance and Environmental Justice, U.S. Environmental Protection Agency, Region 8.

[FR Doc. 2010-21718 Filed 8-30-10; 8:45 am]

BILLING CODE 6560-50-P